COMMISSION ON CIVIL RIGHTS

Agenda and Notice of Public Meeting of the California Advisory Committee

Notice is hereby given, pursuant to the provisions of the rules and regulations of the U.S. Commission on Civil Rights and the Federal Advisory Committee Act, that a factfinding, planning meeting with briefing of the California Advisory Committee will convene at 10 a.m. and adjourn at 4 p.m. on Friday, March 23, 2007, at the Federal Building, 300 N. Los Angeles Street, Conference Room 8529, Los Angeles, California 90012. The purpose of the factfinding, planning meeting with briefing is to obtain information for the FY 2008 Statutory Report on Religion in Prisons.

Persons desiring additional information, or planning to present a statement to the Committee, should contact Thomas V. Pilla, Civil Rights Analyst of the Western Regional Office, 213-894-3437 (TDD 213-894-3435). Hearing impaired persons who will attend the meeting and require the services of a sign language interpreter should contact the Regional Office at least ten (10) working days before the scheduled date of the meeting.

The meeting will be conducted pursuant to the provisions of the rules and regulations of the Commission and the Federal Advisory Committee Act.

It was not possible to publish this notice 15 days in advance of the meeting date because of internal processing delays.

Dated at Washington, DC, March 13, 2007.
Ivy L. Davis,
Acting Chief, Regional Programs Coordination Unit.

[FR Doc. E7-4837 Filed 3-15-07; 8:45 am]

BILLING CODE 6335-01-P